DEPARTMENT OF LABOR

Employment and Training Administration

[TA-W-56,479]

Hoffmaster, Subsidiary of Solo Cup Company, Green Bay, WI; Notice of Negative Determination Regarding Application for Reconsideration

By application of May 5, 2005, a petitioner requested administrative reconsideration of the Department's negative determination regarding eligibility for workers and former workers of the subject firm to apply for Trade Adjustment Assistance (TAA) and Alternative Trade Adjustment Assistance (ATAA). The denial notice was signed on April 1, 2005 and published in the Federal Register on May 2, 2005 (70 FR 22710).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Hoffmaster, Subsidiary of Solo Company, Green Bay, Wisconsin engaged in production of napkins, placemats, and table covers was denied because the “contributed importantly” group eligibility requirement of section 222 of the Trade Act of 1974 was not met, nor was there a shift in production from that firm to a foreign country. The “contributed importantly” test is generally demonstrated through a survey of the workers' firm's declining customers. The survey of customers was irrelevant in this case as the investigation revealed that sales of napkins, placemats and tablecovers increased at the subject firm during the relevant time period. Nevertheless, the survey was conducted in the initial investigation. The survey revealed an insignificant amount of imports. The subject firm did not import napkins, placemats and tablecovers in the relevant period, nor did it shift production to a foreign country.

In the request for reconsideration, the petitioner alleges that the layoffs at the subject firm are attributable to a shift in production to a foreign country. Specifically, the petitioner mentions several locations where the subject firm has plants and which might be foreign locations, such as El Cajon, Glen Falls, Goshen and St. Albans.

A company official was contacted regarding the above allegations. The company official confirmed what was revealed during the initial investigation. In particular, the official stated that all the products which were produced at the subject facility are now produced at other domestic facilities. He further clarified that all locations mentioned by the petitioner are domestic facilities—El Cajon in California, Glen Falls in New York, Goshen in Indiana and St. Albans in Vermont.

Conclusion

After review of the application and investigative findings, I conclude that there has been no error or misinterpretation of the law or of the facts which would justify reconsideration of the Department of Labor's prior decision. Accordingly, the application is denied.

Signed in Washington, DC, this 25th day of May, 2005.
Elliott S. Kushner,
Certifying Officer, Division of Trade Adjustment Assistance.

[FR Doc. E5-2946 Filed 6-8-05; 8:45 am]

BILLING CODE 4510-30-P